DEPARTMENT OF HOMELAND SECURITY

U.S. Customs and Border Protection

DEPARTMENT OF THE TREASURY

19 CFR Part 12

[CBP Dec. 22-04]

RIN 1515-AE72

Emergency Import Restrictions Imposed on Archaeological and Ethnological Material of Afghanistan

AGENCY: U.S. Customs and Border Protection, Department of Homeland Security; Department of the Treasury.

ACTION: Final rule.

SUMMARY: This document amends the U.S. Customs and Border Protection (CBP) regulations to reflect the imposition of emergency import restrictions on certain archaeological and ethnological material from Afghanistan. The Acting Assistant Secretary for Educational and Cultural Affairs, United States Department of State, determined that conditions warrant the imposition of emergency restrictions on categories of archaeological material and ethnological material of the cultural heritage of Afghanistan. This document contains the Designated List of Archaeological and Ethnological Material of Afghanistan that describes the types of objects or categories of archaeological and ethnological material to which the import restrictions apply. The emergency import restrictions imposed on certain archaeological and ethnological material of Afghanistan will be in effect until April 28, 2026, unless extended. These restrictions are being imposed pursuant to determinations of the United States Department of State made under the terms of the Convention on Cultural Property Implementation Act.

DATES: Effective on February 18, 2022.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act, Public Law 97-446, 19 U.S.C. 2601 et seq. (hereinafter, “the Cultural Property Implementation Act” or “Act”), implements the 1970 United Nations Educational, Scientific and Cultural Organization (UNESCO) Convention on the Means of Prohibiting and Preventing the Illicit Import, Export and Transfer of Ownership of Cultural Property (hereinafter, “the Convention” (823 U.N.T.S. 231 (1972)). Pursuant to the Cultural Property Implementation Act, the United States may enter into international agreements with another State Party to the Convention to impose import restrictions on eligible archaeological and ethnological material under procedures and requirements prescribed by the Act. Under certain limited circumstances, the Cultural Property Implementation Act authorizes the imposition of import restrictions on an emergency basis (19 U.S.C. 2603).

Pursuant to 19 U.S.C. 2602(a), on April 28, 2021, Afghanistan, a State Party to the Convention, requested that import restrictions be imposed on certain archaeological and ethnological material, the pillage of which jeopardizes the cultural heritage of Afghanistan. The Cultural Property Implementation Act authorizes the President (or designee) to apply import restrictions on an emergency basis if the President determines that an emergency condition applies with respect to any archaeological or ethnological material of any requesting State Party (19 U.S.C. 2603). The emergency restrictions are effective for no more than five years from the date of the State Party's request and may be extended for three years where it is determined that the emergency condition continues to apply with respect to the covered material (19 U.S.C. 2603(c)(3)). These restrictions may also be continued pursuant to an agreement concluded within the meaning of the Act (19 U.S.C. 2603(c)(4)).

On November 16, 2021, the Acting Assistant Secretary for Educational and Cultural Affairs, United States Department of State, after consultation with and recommendation by the Cultural Property Advisory Committee, made the determinations necessary under the Act for the emergency imposition of import restrictions on certain archaeological material and ethnological material of the cultural heritage of Afghanistan. The Designated List below sets forth the categories of material to which the import restrictions apply. Thus, U.S. Customs and Border Protection (CBP) is amending § 12.104g(b) of title 19 of the Code of Federal Regulations (19 CFR 12.104g(b)) accordingly.

Importation of covered material from Afghanistan will be restricted until April 28, 2026, unless the conditions set forth in 19 U.S.C. 2606 and 19 CFR 12.104c are met.

Designated List of Archaeological and Ethnological Material of Afghanistan

The Designated List includes archaeological and ethnological material sourced from Afghanistan. Archaeological material ranges in date from the Paleolithic (50,000 B.C.) through the beginning of the Durrani Dynasty (A.D. 1747). Ethnological material includes architectural objects and wooden objects associated with Afghanistan's diverse history, from the 9th century A.D. through A.D. 1920. The Designated List set forth is representative only. Any dates and dimensions are approximate. The list is inclusive of yet-to-be-discovered styles and types.

Categories of Archaeological and Ethnological Material

I. Archaeological Material

A. Stone

B. Ceramics, Faience, and Fired Clay

C. Metal

D. Plaster, Stucco, and Unfired Clay

E. Painting

F. Ivory and Bone

G. Glass

H. Leather, Birch Bark, Vellum, Parchment, and Paper

I. Textiles

J. Wood, Shell, and other Organic Material

K. Human Remains

II. Ethnological Material

A. Stone, Brick, Plaster, and Stucco

B. Tiles

C. Stained Glass

D. Wood

Approximate simplified chronology of well-known periods:

(a) Paleolithic to Chalcolithic (c. 50,000-3000 B.C.)

(b) Bronze Age (3000-1000 B.C.)

(c) Achaemenid Period (c. 6th century-330 B.C.)

(d) Mauryan Empire (c. 304-232 B.C.)

(e) Hellenistic Empire and Greco-Bactrian Kingdom (330 B.C.-c. A.D. 10)

(f) Kushan Empire (c. 2nd century B.C.-3rd century A.D.)

(g) Persian Sassanid Empire and Hepthalite Conquest (A.D. 224-651)

(h) Gandharan Period (c. 300 B.C.-A.D. 1200)

(i) Ghaznavid Empire (A.D. 962-1186)

(j) Ghurid Empire (A.D. 1148-1202)

(k) Timurid and Mughal Empire (A.D. 1370-A.D. early 18th century)

(l) Durrani Dynasty (A.D. 1747 ¹-1826)

¹ Note: Import restrictions concerning archaeological material apply only to those objects dating to A.D. 1747 and earlier.

(m) Dost Mohammed and Anglo-Afghan Wars (A.D. 1826-1880)

(n) Modern Afghanistan (A.D. 1880-Present) ²

² Note: Import restrictions concerning ethnological material apply only to those objects that are 100 years old or older.

I. Archaeological Material

A. Stone

1. Architectural Elements—Primarily in alabaster, limestone, marble, steatite schist and other types of stone. Category includes, but is not limited to, bricks and blocks from walls, ceilings, and floors; columns; door frames; false gables; friezes; lintels; mihrabs; minarets; niches; pillars; plinths; qiblas; and so on. These architectural elements may be plain, molded, carved, or inscribed in various languages and scripts. Decorative elements on architectural elements may be in high or low relief. Architectural elements may include relief and inlay sculptures that were part of a building (e.g., mausoleums, mosques, minarets, palaces, religious structures, public buildings, stupas, and others) such as friezes, panels, or stone figures. Architectural elements may have religious imagery or have been part of religious structures. For example, Gandharan and Kushan Period styles may include images of the Buddha, scenes from the life of the Buddha, Bodhisattvas, and other human figures, as well as animals, columns, and floral, geometric, and/or vegetal motifs. Other examples may include architectural elements with images of Hindu deities and figures, or Zoroastrian images. Architectural elements carved in stone from Islamic periods may include inscriptions in multiple languages and scripts. Stone architectural elements were common across many periods in Afghanistan's history. Approximate date: 330 B.C.-A.D. 1747.

2. Non-Architectural Relief Sculpture—Primarily in alabaster, limestone, marble, steatite schist, and other types of stone. Types include, but are not limited to, carved bases, ceiling decoration, funerary headstones and monuments, fountains, monoliths niches, plaques, roundels, slabs, sundials, and stelae bases. Decorative elements may be in high- or low-relief and may include animal and/or human forms as well as floral, geometric, and/or vegetal motifs. Includes edicts and rock pillars with inscriptions in low relief. Inscriptions may be in multiple languages and scripts. Approximate date: 330 B.C.-A.D. 1747.

3. Large Statuary—Primarily in grey schist, gypsum, and marble. Statuary includes human figures, which are often seated or standing. Heads and other figurative elements may be used in high- or low-relief statues. Large statuary of human figures is primarily associated with the Hellenistic Empire and Greco-Bactrian Kingdom through the Gandharan Periods. Also includes statuary of Hindu deities, figures, and images, often dated from the 7th century A.D. onward. Approximate date: 330 B.C.-A.D. 1200.

4. Small Statuary—Primarily in alabaster, calcite, chlorite, dolomite, jasper, limestone, marble, and steatite; primarily free standing; may have been shaped by carving, incision, grinding, polishing, or other techniques. Animal and human forms tend to be stylized. Includes game pieces. Small statuary is found throughout many archaeological periods from the Bronze Age onward, but representative styles are from the Bactrian and Sassanian periods. Approximate date: 2100 B.C.-A.D. 1200.

a. Bactrian figurative statuary is often made of more than one type of stone, often chlorite or steatite, with limestone. Bactrian statues are in anthropomorphic forms, primarily female, and are elaborately carved and/or incised. Forms tend to be abstract and stylized, with armless bodies and legs, and a small protruding head. Heads tend to be small and carved in white limestone. Often in a seated or squatting position. Zoomorphic forms are also included and are often in a squatting or coiled position. Sizes vary, but are typically 14 cm tall. Approximate date: 3rd-2nd millennium B.C.

b. Non-figurative Bactrian statuary includes types such as columns, pillars, or column idols, and discs or disc idols. Column and disc statues have a smooth finish. Columns may have an elongated and/or tapered form with a wider base than at top. Column sizes vary, but typically range from 28-40 cm high and 10-20 cm wide. Discs may have an incision or groove through the center. Disc sizes vary, but typically range from 20-30 cm wide. Approximate date: 3rd-2nd millennium B.C.

c. Sassanian statuary includes animal and human figures shaped by carving, grinding, and/or polishing. Figures tend to be stylized. May have been used for a variety of purposes including, small statuary possibly used as gaming pieces. Approximate date: A.D. 200-700.

5. Vessels and Containers—Primarily in alabaster, chlorite, porphyry, rock crystal, and steatite schist. Vessel types may be conventional shapes such as amphora, bowls, cups, cylindrical vessels, flacons, jars, jugs, lamps, platters, pyxides, flasks, and trays, and may also include cosmetic containers, reliquaries (and their contents), and incense burners. Some drinking vessels (rhytons) may be in the shape of an animal or mythical creature carved into the ventral end. Surfaces may have incised geometric or vegetal decoration, incised script in multiple languages, and/or be polished. Some stone vessels and containers have no surface decoration. Includes vessel lids.

6. Tools, Instruments, and Weights—Includes groundstone and flaked stone tools.

a. Groundstone tools, instruments, and weights are mainly made from diorite, granite, marble, limestone, or quartz, but other types of stone are included. Types of groundstone tools include balls, batons, maces, palates, pestles, scrapers, scepters, and others. Includes spindle whorls and weights. Ends of batons and scepters may be carved or shaped and are approximately 50 cm to 2 m in length. Stone weights can be shaped or ground into various forms including balls, cubes, handbags, pyramids, rings, or teardrop shapes; may be polished; and may be decorated with incisions or inscriptions in multiple languages. Stone weights typically vary from 20 to 30 cm. Stone tools used to polish, shape, or sharpen other tools are included.

b. Flaked stone tools are primarily made of chert or other cryptocrystalline silicates, flint, limestone, obsidian, quartzite, schist, and others. Flaked stone tool types include axes, bifaces, blades, choppers, cores, hammers, microliths, projectiles, scrapers, sickles, unifaces, and others. Also includes tools like hammerstones and anvils used to create flaked stone tools.

7. Beads and Jewelry—Primarily in agate, amber, carnelian, cryptocrystalline silicates, garnet, lapis lazuli, onyx, turquoise, quartz, or other semi-precious materials. Beads may be carved, cut, drilled, ground, and/or polished. Beads include animal, conical, cylindrical, disc, faceted, tear drop, spherical, and other shapes. May be inscriptions in multiple types of languages and scripts. Jewelry includes amulet, amulet cases, bracelets, necklaces, rings, and other types.

8. Stamps and Seals—Primarily in agate, amethyst, chalcedony, hematite, jasper, rock crystal, steatite, or other types of stone. Stamps and seals may have engravings that include animals, human figures, geometric designs, inscriptions in various languages and scripts, and/or floral/vegetal motifs. Approximate date: 4th century B.C.-A.D. 1500.

9. Furniture— Primarily in agate, steatite, turquoise, or other semi-precious stones. Includes furniture and furniture hardware such as inlay, fragments of inlay, fasteners, handles, knobs, and roundels.

B. Ceramics, Faience, and Fired Clay

1. Statuary—Includes small and large-scale ceramic and terracotta statuary. May be in animal, human, hybrid animal/human, and mythological forms. Imagery may be religious. Objects may be associated with religious activity, games, or toys. May have traces of paint or pigment. Forms may be stylized or naturalized statuary depending on the time period. Stylized forms are associated with the Neolithic and Sassanian periods, while naturalized forms are associated with the Greco-Bactrian and Gandharan period onward. Approximate date: 9000 B.C.—A.D. 1747.

2. Architectural Elements—Includes terracotta antefixes, niches, panels, tiles, and other elements used as functional or decorative elements in buildings and mosaics. Terracotta panels may be painted or have traces of paint. Terracotta tiles may be painted or unpainted. Mosaic designs often include animals, humans, floral, geometric, and/or vegetal motifs. Tiles may be carved or have impressed or molded images of animals, humans, floral, geometric, and/or vegetal motifs for decorative relief. Imagery may be religious. Includes bricks, pipes, and other architectural elements from archaeological contexts. Approximate date: 330 B.C.-A.D. 1747.

3. Vessels—Includes utilitarian types, fine tableware, incense burners, cosmetic containers, funerary urns, lamps, and other ceramic objects of everyday use.

a. Neolithic—Includes earthenware vessels. Vessel types include bowls, cups, goblets, jars, vases, and other forms. Often painted with animal design; floral, geometric, and/or vegetal motifs (e.g., pipal leaves). Approximate date: 9000-2400 B.C.

b. Bronze Age through pre-Islamic Periods—Includes earthenware vessels that may have a pink, peach, orange, or grey core. Vessel types include conventional shapes such as basins, beakers, bottles, bowls, jars, pitchers, storage vessels, vases, as well other forms such as cosmetic jars, lamps, stands, and table amphorae. Vessel forms may have pedestalled bases and/or handles. Surface treatments may include slip, painting, and/or burnishing/polishing. Decorative techniques include incised and impressed decorations, including grooving, roulette, stamping, and other techniques. Stamps used for decoration range from simple geometric patterns to rosettes to elaborate scenes combining animal, floral, geometric, and/or vegetal designs. Some vessels may have elaborate shapes created using molds. High-relief surface decorative techniques may include affixing molded animal heads or rosettes to the exterior surface of a vessel. Examples include Greco-Bactrian vessels that range from plain to having multiple types of surface treatment and decorative techniques. Begram vessels may have intricate human/animal hybrid shapes molded into the vessel exterior. Some Sassanian vessel forms may have uniformly glazed ceramics in green, blue-green, or yellow glazes, while utilitarian forms may be unglazed. Includes lids of ceramic vessels. Approximate date: 3000 B.C.-A.D. 1000.

c. Islamic Periods—Includes earthenware vessels (often red and buff) and porcelain. Vessel types may form conventional shapes such as bowls, cups, ewers, flasks, jars, jugs, platters, trays, and other types such as fire blowers (aeolipipes), incense burners, footed vessels, and zoomorphic shapes. May be hand-built, molded, or wheel thrown. Surface treatments may include slip, polishing, burnishing, and others. Vessels may have slip and paint. Other decorative techniques include incisions (sgraffito), often in floral, geometric, and/or vegetal designs; and inscriptions in multiple languages and scripts. Animal and human forms may be stylized. Vessels may have colorless lead, monochrome, or polychrome glazing. Vessels may be colorful. Common colors include green, yellow, blue, tomato red, purplish black, turquoise, and white. Imported types include celadons and blue-and-white porcelain from China; fritware, earthenware, and copies of Chinese ceramics from Iran; and glazed ceramics from Uzbekistan. Includes lids of ceramic vessels. Approximate date: A.D. 1000-1747.

4. Islamic Period Tiles—Includes glazed tiles and bricks used to decorate civic and religious architecture. Tiles are mostly square, but some are polygonal. Types may be molded and glazed in monochrome or polychrome. Turquoise and manganese are commonly used for glazing. Some tiles can be molded with decoration, with low- and high-relief techniques. Decorative molding may be in floral, geometric, or vegetal motifs; may have animal imagery. May have inscriptions in multiple languages and scripts. Includes glazed bricks. Approximate date: A.D. 1000-1747

C. Metal—Includes copper, gold, silver, iron, electrum, and alloys of copper, tin, lead, and zinc. Metal objects may have been created using different techniques such as casting, chasing, gilding or repoussé. Approximate date: 3000 B.C.-A.D. 1750.

1. Containers and Vessels—Vessel types may form conventional shapes such as basins, bowls, cauldrons, cups, dishes, ewers, flacons, jars, jugs, lamps, platters, stands, table ornaments, and utensils, and also may be cosmetic containers, incense burners, medicine droppers, reliquaries (and their contents), spouted vessels, and tripod stands. Some drinking vessels (rhytons) may be in the shape of an animal or mythical creature carved into the ventral end. Some styles may have lids and/or handles. Metal containers may be cast and turned, chased, engraved, gilt, and/or punched. Decorative styles include, but are not limited to, animals, arabesque motifs, inscriptions in different languages, floral motifs, geometric motifs, vegetal motifs. Some types of containers and vessels, like reliquaries, may be inlaid with garnet, lapis lazuli, pearl, turquoise, and/or other types of semi-precious stone as well as other types of precious metals, including gold and silver. Includes lids and handles of vessels.

2. Jewelry and Personal Adornment—Types include, but are not limited to, amulets, amulet holders, bracelets, bracteates, belts, brooches, buckles, buttons, charms, crowns, hair ornaments, hairpins, mirrors, mirror handles, necklaces, ornaments, pectoral ornaments, pendants, rings, rosettes, scale weights, staffs, and others. May be highly decorative and include inlays of other types of ivory, bone, animal teeth, metals, precious stones, or semi-precious stones. Includes metal ornaments once attached to other types of textiles or leather objects.

3. Tools and Instruments—Types include, but are not limited to, axes, bells, blades, hooks, keys, knives, pins, projectiles, rakes, sickles, spoons, staffs, trowels, weights, and tools of craftpersons such as carpenters, masons, and metal smiths. Approximate date: 3000 B.C.-A.D. 1747.

4. Weapons and Armor—Includes body armor, such as helmets, shin guards, shields, horse armor and horse bits. Launching weapons (spears and javelins); hand-to-hand combat weapons (swords, daggers); and sheaths. Some weapons may be highly decorative and include inlays of other types of metals, precious stones, or semi-precious stones in the sheaths and hilts. Approximate date: 330 B.C.-A.D. 1747.

5. Coins— Ancient coins include gold, silver, copper, and bronze coins; may be hand stamped with units ranging from tetradrachms to dinars; includes gold bun ingots and silver ingots, which may be plain and/or inscribed. Some of the most well-known types are described below:

a. The earliest coins in Afghanistan are Greek silver coins, including tetradrachms and drachmae. Approximate date: 530-333 B.C.

b. During the reign of Darius I, gold staters and silver sigloi were produced in Bactria and Gandhara. Approximate date: 586-550 B.C.

c. Achaemenid coins include round punch-marked coins with one or two punched holes and bent bar coins (shatamana). Approximate date: 5th century B.C.

d. Gandhara coins include janapadas, bent bar coins based on the silver sigloi weight. Approximate date: 4th century B.C.

e. Mauryan coins include silver karshapanas with five punches, six arm designs, and/or sun symbols. Weights ranged from 5.5 to 7.2 gm. Approximate date: 322-185 B.C.

f. Gold staters and silver tetradrachms were produced locally after Alexander the Great conquered the region. Approximate date: 327-323 B.C.

g. Greco-Bactrian coins include gold staters, silver tetradrachms, silver and bronze drachms, and a small number of punch-marked coins. The bust of the king with his name written in Greek and Prakit were on the obverse, and Greek deities and images of Buddha were on the reverse. Approximate date: 250-125 B.C.

h. Common Roman Imperial coins found in archaeological contexts in Afghanistan were struck in silver and bronze. Approximate date: 1st century B.C.-4th century A.D.

i. Kushan Dynasty coins include silver tetradrachms, copper coin (Augustus type), bronze diadrachms and gold dinars. Imagery includes portrait busts of each king with his emblem (tamgha) on both sides. Classical Greek and Zoroastrian deities and images of the Buddha are depicted on the reverse. Approximate date: A.D. 19-230.

j. Sassanian coins include silver drachms, silver half drachms, obols (dang), copper drahms and gold dinars, and gold coins of Shapur II (A.D. 309-379). Starting with Peroz I, mint indication was included on the coins. Sassanian coins may include imagery of Zoroastrian Fire Temples. Approximate date: A.D. 224-651.

k. Hephthalite coins include silver drachms, silver dinars, and small copper and bronze coins. The designs were the same as Sassanian, but they did not put the rulers' names on the coins. Hephthalite coins may include imagery of Zoroastrian Fire Temples. Approximate date: 5th-8th centuries A.D.

l. Turk Shahis coins include silver and copper drachma with portraits of the rulers wearing a distinctive triple crescent crown. The emblems of these Buddhist Turks were also included on the coin. Inscriptions were in Bactrian. Approximate date: A.D. 665-850.

m. Shahiya or Shahis of Kabul coins include silver, bronze, and copper drachma with inscriptions of military and chief commanders. Hindu imagery is included on the coin design. The two main types of images are the bull and horseman and the elephant and lion. Approximate date: A.D. 565-879.

n. Chinese coins belonging primarily to the Tang Dynasty are found in archaeological contexts in Afghanistan. Approximate date: A.D. 618-907.

o. Ghaznavid coins include gold dinars with bilingual inscriptions, Islamic titles in Arabic and Sharda and images of Shiva, Nandi, and Samta Deva. Approximate date: A.D. 977-1186.

p. Ghurid coins include silver and gold tangas with inscriptions and abstract goddess iconography. Approximate date: A.D. 879-1215.

q. Timurid coins include silver and copper tangas and copper dinars, both coin types are decorated with Arabic inscriptions. Approximate date: A.D. 1370 -1507.

r. Mughal coins include shahrukhi, gold mithqal, gold mohur, silver rupee, copper dams, and copper falus. The iconography varies, depending on the ruler, but popular designs include images of the Hindu deities Sita and Ram, portrait busts of the rulers, and the twelve zodiac signs. Approximate date: A.D. 1526-1857.

6. Ceremonial Objects—Includes highly decorative axes, staffs, swords, and other types of implements. While the forms may be similar to utilitarian objects, ceremonial objects are too decorative to have been used as everyday tools. Approximate date: 3000 B.C.-A.D. 1747.

7. Statuary, Ornaments, and other Relief Sculpture—Primarily in copper, gold, silver, bronze, or alloys of copper, tin lead, and zinc. Includes free-standing or supported statuary; relief plaques or tablets; votive ornaments; and other ornaments. Decoration may include humans, animals, mythological figures (e.g., griffins or horned lions), and/or scenes of activity. Plaques or tablets may have been cast, chased, and/or embossed. Plaques and tablets may have inlay of other types of material. Statuary includes objects fashioned as humans, animals, or mythological figures; miniature chariots; wheeled carts; and other types of objects. Decorative elements may include floral, geometric, or vegetal motifs; inscriptions in multiple languages or scripts. Statuary includes naturalized and stylized forms.

8. Stamps and Seals—Primarily in cast bronze, and alloys of copper, tin, lead, and zinc; includes stamps and seals in gold or silver. Types include amulets, rings, small devices with engraving on one side, and others. Stamps and seals may have engravings that include animals, human figures, geometric designs, inscriptions in various languages and scripts, and/or floral/vegetal motifs. May have inlay of other types of material. Approximate date: 4th century B.C.-A.D. 1500.

D. Plaster, Stucco, and Unfired Clay—Includes animal figures, columns, human figures, reliefs, medallions, ornaments, panels, plaques, roundels, window screens, and other architectural and non-architectural decoration or sculpture. There may be traces of paint, gilding, and/or inscriptions in multiple languages and scripts. Stucco panels may have elaborate scenes of animals and human activity (such as hunting or elite activity) and/or floral, geometric, and vegetal patterns. Stucco panels may have been made with molds. Stucco figures and objects may have strong resemblance to Hellenistic styles. Painted clay objects are often represented as single individuals, such as a Buddha, Bodhisattva, or a male or female patron of a religious complex. Unfired clay roundels with stamped impressions used as sealing material are included.

E. Painting—Includes wall painting and fragments, often having a white base coat on ground clay mixed with small stones and vegetal matter; color is often applied in thin pigments in primary colors; figures are often outlined in black. Subjects vary, but images of Buddha figures and mandalas are common.

F. Ivory and Bone

1. Non-Architectural Relief Panels and Plaques—Highly and elaborately decorated and engraved panels and plaques with low- and high-relief carvings. May include imagery of humans, animals, and human activity; floral, geometric, and/or vegetal designs. Begram ivory panels are a typical example. Approximate date: 1st century A.D.

2. Statuary—Includes carved animal and human figures. Floral, geometric, and/or vegetal decorative elements may be part of the carved design. May be in low- or high-relief. Begram Ivory figurines are an example.

3. Containers, Handles, and other Non-Architectural Objects—Includes buckles, buttons, combs, game die, handles on daggers, mirrors, pins, and other personal objects.

4. Furniture—Includes arms, brackets, handles, finials, footstools, and legs in chairs, chests, trunks, and other types of furniture.

G. Glass

1. Architectural Elements—Mosaics and stained glass with various designs and colors. May be part of large designs with floral, geometric, and/or vegetal motifs; often with religious imagery. Includes glass inlay used in architectural elements. Approximate date: 1st century A.D.-A.D. 1747.

2. Beads/Jewelry—Includes beads that may be cylindrical, spherical, conical, disc, and others. Decorations may include bevels, incisions, and/or raised decoration. Includes glass inlay used in other types of beads and/or jewelry. Approximate date: 1st century A.D.-A.D. 1747.

3. Vessels—Vessel types may form conventional shapes such as beakers, bowls, cups, dishes, flasks, goblets, jars, mugs, perfume bottles, and vases, and other shapes such as cosmetic containers, lamps, medicine droppers, and others. Flasks and drinking vessels may be shaped as animals or fish. Some vessel types may have been blown into molds. May have decorative elements of high-relief including honeycomb patterns and waves. May be monochrome or polychrome. Some polychrome glass vessels are elaborately colored and decorated with animals, humans, human activity; floral, geometric, and vegetal designs. Some polychrome glass vessels may have been elaborately painted with scenes of humans, animals, and/or scenes of human activity or have traces of paint. Vessels created and molded using mosaic techniques are included. Approximate date: 1st century A.D.-A.D. 1747.

4. Ornaments—Includes glass medallions. May have molded decorations including, but not limited to, animals, humans, floral, geometric, and vegetal motifs. Typically associated with the Ghaznavid and Ghurid periods. Approximate date: A.D. 1000-1200.

H. Leather, Birch Bark, Velum, Parchment, and Paper

1. Books and Manuscripts—Includes scrolls, sheets, or bound volumes. Includes secular and religious texts. Text may be written on birch bark, velum, parchment, or paper, and may be gathered into leather bindings or folios. Calligraphy is written in ink. Books and manuscripts are written in multiple languages and scripts, but Arabic and Persian are most common. Books and manuscripts may be further embellished or decorated with colorful floral, geometric, or vegetal motifs; images of animals; images of humans and human activity. Decoration, embellishment, illumination, and/or painting may have been added after the text was written. Occasionally, there are portraits or illustrations of single figures. May be in miniature form. Timurid period manuscript types are typically highly colorful with polychrome decoration, embellishment, illumination, and/or painting. Approximate date: 1st century A.D.-A.D. 1750.

2. Items of Personal Adornment—Primarily in leather, including bracelets, belts, necklaces, sandals, shoes, and other types of jewelry. May be embroidered or embellished with other types of materials. Leather goods may have also been used in conjunction with other types of textiles.

I. Textiles—Includes silk, linen, cotton, hemp, wool, damasee, samit, other woven materials used in basketry and other household goods; clothing, shoes, jewelry, and items of personal adornment; burial shrouds; tent coverings and domestic textiles; carpets; and others. Decorative techniques may include embroidery with various motifs, including, but not limited to, animals, floral, geometric, and vegetal motifs or textiles may be undecorated. May have patterns woven into the body of the textile. Gold or silver threads may be woven into other fabrics, for example in samit textiles. May have traces of paint. Approximate date: 1st century A.D.-A.D. 1747.

J. Wood, Shell, and other Organic Material—Includes architectural pieces made from wood; statuary and figurines; furniture; jewelry and other items of personal adornment; musical instruments; vessels and containers; and engraved stamps and seals from archaeological contexts.

K. Human Remains—Human remains and fragments of human remains, including skeletal remains, soft tissue, and ash from the human body that may be preserved in burial, reliquaries, and other contexts.

II. Ethnological Material

A. Stone, brick, plaster, and stucco—Primarily in brick, plaster, stone (e.g., alabaster, limestone, marble, steatite schist), and stucco. Includes structural elements such as bricks and blocks from walls, ceilings, and floors; columns; door frames; false gables; friezes; jalis; lintels; mihrabs; minarets; niches; pillars; plinths; qiblas; and others. Also includes decorative elements such as carved bases, ceiling decoration, funerary headstones and monuments, fountains, monoliths, niches, plaques, roundels, slabs, and stelae bases. May be plain, molded, carved, or inscribed in various languages and scripts. Decorative elements may be in high- or low-relief. Architectural elements may include relief and inlay sculptures that were part of a building (e.g., mausoleums, mosques, minarets, palaces, religious structures, public buildings, royal buildings, shrines, stupas, and others), such as friezes, panels, or stone figures. Architectural elements may have religious imagery or may have been part of religious structures.

B. Tiles—Includes glazed tiles and glazed bricks used to decorate civic and religious architecture. Tiles are mostly square, but some are polygonal. Types may be molded and glazed in monochrome or polychrome. Turquoise and manganese are commonly used for glazing. Some tiles can be molded with decoration, with low- and high-relief techniques. Decorative molding may be in floral, geometric, or vegetal motifs; may have animal imagery. May have inscriptions in multiple languages and scripts.

C. Stained Glass—Stained glass is glass that is colored and arranged in various patterns, often with floral, geometric, and/or vegetal designs. Wooden dividers may separate the panels of glass. Often in the windows of religious buildings, including mosques.

D. Wood

1. Architectural elements—This type encompasses both structural and decorative elements including walls, doors, door frames, posts, lintels, jambs, finials, figural capitals, panels, veranda shutters, window fittings, window frames, balconies, minbars, mihrabs, or pieces of any of these objects. Architectural elements may be repurposed into newer and different items, such as a wood panel into a table or a door jamb into a bench. Well known examples are from the Nuristan region or date to the Timurid and Mughal period.

2. Nuristani Figures—Includes life-sized and hand-held stylized wooden figures of ancestors and deities. A small number are horse and rider types. Many have sustained damage including small holes and cracks, others may be partially defaced, and others may be cut in half for ease of transport. Approximate date: A.D. 1400 -1920.

3. Musical Instruments—Type includes stringed and percussion instruments associated with the Nuristani culture. Typically made in a variety of materials including animal hair, animal hides, cloth, nylon, and wood. Stringed instruments may have bows often crafted with horsehair or silk; may have ivory inlay; may have tuning pegs. Approximate date: A.D. 1400—1920.

References

Afghanistan: Hidden Treasures from the National Museum, Kabul, 2008, edited by Frank Hiebert and Pierre Cambon, National Geographic, Washington DC.

Afghanistan: Une Histoire Millenaire, 2002, Musee Guimet, Paris.

After Alexander: Central Asia Before Islam, 2007, Edited by Joe Cribb and Georgina Herrmann, The British Academy by Oxford University Press, Oxford.

Ancient Art from Afghanistan: Treasures of the Kabul Museum, 1966, Benjamin Rowland Jr., Asia Society, New York.

Buddhist Art of Gandhara: In the Ashmolean Museum, 2018, David Jongeward, Ashmolean Museum and University of Oxford, Oxford.

National Museum of Herat—Areia Antiqua Through Time, 2007, Ute Frank, Deutsches Archaologisches Institut Berlin, Eurasien-Abteilung.

The Monuments of Afghanistan: History, Archaeology, and Architecture, 2008, Warwick Ball, I.B. Tauris & Co Ltd, New York.

Typology and Chronology of Ceramics of Bactria, Afghanistan 600 BCE-500 CE, 2015, Charlotte Elizabeth Maxwell-Jones, University of Michigan, Ann Arbor.

Inapplicability of Notice and Delayed Effective Date

This amendment involves a foreign affairs function of the United States and is, therefore, being made without notice or public procedure (5 U.S.C. 553(a)(1)). For the same reason, a delayed effective date is not required under 5 U.S.C. 553(d)(3).

Regulatory Flexibility Act

Because no notice of proposed rulemaking is required, the provisions of the Regulatory Flexibility Act (5 U.S.C. 601 et seq.) do not apply.

Executive Order 12866

CBP has determined that this document is not a regulation or rule subject to the provisions of Executive Order 12866 because it pertains to a foreign affairs function of the United States, as described above, and therefore is specifically exempted by section 3(d)(2) of Executive Order 12866.

Signing Authority

This regulation is being issued in accordance with 19 CFR 0.1(a)(1) pertaining to the Secretary of the Treasury's authority (or that of his/her delegate) to approve regulations related to customs revenue functions.

Chris Magnus, the Commissioner of CBP, having reviewed and approved this document, is delegating the authority to electronically sign this document to Robert F. Altneu, who is the Director of the Regulations and Disclosure Law Division for CBP, for purposes of publication in the Federal Register.

List of Subjects in 19 CFR Part 12

Cultural property, Customs duties and inspection, Imports, Prohibited merchandise, Reporting and recordkeeping requirements.

Amendment to CBP Regulations

For the reasons set forth above, part 12 of title 19 of the Code of Federal Regulations (19 CFR part 12), is amended as set forth below:

PART 12—SPECIAL CLASSES OF MERCHANDISE

1. The general authority citation for part 12 and the specific authority for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (b) is amended by adding Afghanistan to the list in alphabetical order to read as follows:

§ 12.104g Specific items or categories designated by agreements or emergency actions.

* * * * *

(b) * * *

State party | Cultural property | Decision No.
Afghanistan | Archaeological and ethnological material from Afghanistan | CBP Dec. 22-04.
* * * * * * *

Robert F. Altneu,
Director, Regulations & Disclosure Law Division, Regulations & Rulings, Office of Trade U.S. Customs and Border Protection.
Timothy E. Skud,
Deputy Assistant Secretary of the Treasury.

[FR Doc. 2022-03663 Filed 2-18-22; 8:45 am]

BILLING CODE 9111-14-P